DEPARTMENT OF THE INTERIOR

Bureau of Land Management

[OR-010-1020-PK; HAG 05-0044]

Meeting Notice for the Southeast Oregon Resource Advisory Council

AGENCY: Bureau of Land Management (BLM), Lakeview District, Interior.

ACTION: Meeting notice for the Southeast Oregon Resource Advisory Council.

SUMMARY: The Southeast Oregon Resource Advisory Council (SEORAC) will hold a meeting for all members from 8 a.m. to 5 p.m. Pacific Time (PT), Monday, February 7, 2005 and 8 a.m. to noon (PT) on Tuesday, February 8, 2005 at the Fremont-Winema National Forests, Winema Office, Conference Room, 2819 Dahlia Street, Klamath Falls, Oregon 97601. Members of the public may attend the meeting in person.

The meeting topics that may be discussed by the Council include a discussion of issues within Southeast Oregon related to: Election of Officers, Role and Responsibilities of RAC members; Approval of past minutes, 2005 Calendar Dates; RAC Charter Changes. Work Plan Priorities, Update of the Oregon Sage-grouse Plan. Hydrology Presentation, Owyhee River below the dam update, North Lake Recreation Plan update, Wild Horse and Burro update, Fremont-Winema National Forests grazing program update, liaison reports and Federal Official reports. Discussion of the subcommittee priorities and roles, meeting of subcommittees and other issues that may come before the Council.

Information to be distributed to the Council members is requested in written format 10 days prior to the Council meeting. Public comment is scheduled for 11:45 a.m. (PT) on Monday February 7, 2005.

FOR FURTHER INFORMATION CONTACT: Additional information concerning the SEORAC meeting may be obtained from Pam Talbott, Contact Representative, Lakeview Interagency Office, 1301 South G Street, Lakeview, OR 97630 (541) 947-6107, or ptalbott@or.blm.gov and/or from the following Web site http://www.or.blm.gov/SEOR-RAC.

Dated: January 6, 2005.
M. Joe Tague,
Acting District Manager.

[FR Doc. 05-708 Filed 1-12-05; 8:45 am]

BILLING CODE 4310-33-P